OFFICE OF THE UNITED STATES TRADE REPRESENTATIVE

Reallocation of Unused Fiscal Year 2022 Tariff-Rate Quota Volume for Raw Cane Sugar

AGENCY: Office of the United States Trade Representative.

ACTION: Notice.

SUMMARY: The Office of the United States Trade Representative (USTR) is providing notice of country-by-country reallocations of the fiscal year (FY) 2022 in-quota quantity of the World Trade Organization (WTO) tariff-rate quota (TRQ) for imported raw cane sugar.

DATES: This notice is applicable on April 18, 2022.

FOR FURTHER INFORMATION CONTACT: Erin Nicholson, Office of Agricultural Affairs, at 202-395-9419 or erin.h.nicholson@ustr.eop.gov.

SUPPLEMENTARY INFORMATION: Pursuant to Additional U.S. Note 5 to chapter 17 of the Harmonized Tariff Schedule of the United States (HTSUS), the United States maintains WTO TRQs for imports of raw cane and refined sugar. Section 404(d)(3) of the Uruguay Round Agreements Act (19 U.S.C. 3601(d)(3)) authorizes the President to allocate the in-quota quantity of a TRQ for any agricultural product among supplying countries or customs areas. The President delegated this authority to the U.S. Trade Representative under Presidential Proclamation 6763 (60 FR 1007).

On September 13, 2021, the Secretary of Agriculture established the FY 2022 TRQ for imported raw cane sugar at the minimum to which the United States is committed pursuant to the WTO Uruguay Round Agreements (1,117,195 metric tons raw value (MTRV) conversion factor: 1 metric ton = 1.10231125 short tons). On September 16, 2021, USTR provided notice of country-by-country allocations of the FY 2022 in-quota quantity of the WTO TRQ for imported raw cane sugar. See 86 FR 51712. Based on consultation with quota holders, the U.S. Trade Representative has determined to reallocate 201,551 MTRV of the original TRQ quantity from those countries that have stated they do not plan to fill their FY 2022 allocated raw cane sugar quantities. The U.S. Trade Representative is allocating the 201,551 MTRV to the following countries in the amounts specified below:

Country | FY 2022 raw sugar unused reallocation (MTRV)
Argentina | 11,027
Australia | 21,284
Barbados | 1,795
Belize | 2,821
Bolivia | 2,051
Brazil | 37,182
Colombia | 6,154
Costa Rica | 3,846
Dominican Republic | 40,000
Ecuador | 2,821
El Salvador | 6,667
Eswatini (Swaziland) | 4,103
Fiji | 2,308
Guatemala | 12,309
Guyana | 3,077
Honduras | 2,564
India | 2,051
Malawi | 2,564
Mauritius | 3,077
Mozambique | 3,334
Panama | 7,437
Peru | 10,514
South Africa | 5,898
Thailand | 3,590
Zimbabwe | 3,077

The allocations of the raw cane sugar WTO TRQ to countries that are net importers of sugar are conditioned on receipt of the appropriate verifications of origin. Certificates for quota eligibility must accompany imports from any country for which an allocation has been provided.

Greta M. Peisch,
General Counsel, Office of the United States Trade Representative.

[FR Doc. 2022-08246 Filed 4-15-22; 8:45 am]

BILLING CODE 3390-F2-P